SECURITIES AND EXCHANGE COMMISSION

[Release No. 34-75380; File No. SR-DTC-2015-003]

Self-Regulatory Organizations; The Depository Trust Company; Notice of Withdrawal of Proposed Rule Change Regarding the Acknowledgment of End-of-Day Net-Net Settlement Balances by Settling Banks

July 7, 2015.

On April 15, 2015, The Depository Trust Company (“DTC”) filed with the Securities and Exchange Commission (“Commission”) proposed rule change SR-DTC-2015-003 (“Proposed Rule Change”) pursuant to Section 19(b)(1) of the Securities Exchange Act of 1934¹ and Rule 19b-4 thereunder regarding the acknowledgment of End-of-Day Net-Net Settlement Balances by Settling Banks.² The Proposed Rule Change was published for comment in the Federal Registrar on May 5, 2015.³ The Commission received one comment letter to the Proposed Rule Change.⁴ On June 5, 2015, DTC extended the date for Commission action on the Proposed Rule Change to August 3, 2015. On July 1, 2015, DTC withdrew the Proposed Rule Change (SR-DTC-2015-003).

¹ 15 U.S.C. 78s(b)(1).

² 17 CFR 240.19b-4.

³ Securities Exchange Act Release No. 74830 (April 29, 2015), 80 FR 25727 (May 5, 2015) (File No. SR-DTC-2015-003).

⁴ Letter from Suzanne Shatto (May 3, 2015), available at https://www.sec.gov/comments/sr-dtc-2015-003/dtc2015003.shtml.

For the Commission, by the Division of Trading and Markets, pursuant to delegated authority.⁵
⁵ 17 CFR 200.30-3(a)(12).
Brent J. Fields,
Secretary.

[FR Doc. 2015-16979 Filed 7-10-15; 8:45 am]

BILLING CODE 8011-01-P